GENERAL SERVICES ADMINISTRATION

[OMB Control No. 3090-0250]

General Services Administration Acquisition Regulation; Information Collection; Zero Burden Information Collection Reports

AGENCY: Office of the Chief Acquisition Officer, GSA.

ACTION: Notice of request for comments regarding a renewal to an existing OMB clearance.

SUMMARY: Under the provisions of the Paperwork Reduction Act of 1995 (44 U.S.C. Chapter 35), the General Services Administration will be submitting to the Office of Management and Budget (OMB) a request to review and approve a renewal of a currently approved information collection requirement regarding zero burden information collection reports.

Public comments are particularly invited on: Whether this collection of information is necessary and whether it will have practical utility; whether our estimate of the public burden of this collection of information is accurate, and based on valid assumptions and methodology; ways to enhance the quality, utility, and clarity of the information to be collected.

DATES: Submit comments on or before: July 5, 2005.

FOR FURTHER INFORMATION CONTACT Linda Nelson, Procurement Analyst, Contract Policy Division, at telephone (202) 501-1900 or via e-mail to linda.nelson@gsa.gov.

ADDRESSES: Submit comments regarding this burden estimate or any other aspect of this collection of information, including suggestions for reducing this burden to the Regulatory Secretariat (VIR), General Services Administration, Room 4035, 1800 F Street, NW., Washington, DC 20405. Please cite OMB Control No. 3090-0250, Zero Burden Information Collection Reports, in all correspondence.

SUPPLEMENTARY INFORMATION:

A. Purpose

This information requirement consists of reports that do not impose collection burdens upon the public. These collections require information which is already available to the public at large or that is routinely exchanged by firms during the normal course of business. A general control number for these collections decreases the amount of paperwork generated by the approval process. Since May 10, 1992, GSA has published two rules in the Federal Register that fall under OMB Information Collection number 3090-0250: APD 2800.12A, CHGE 25, Implementation of Public Law 99-506, 56 FR 29442, June 27, 1991; and APD 2800.12A, CHGE 75, Industrial Funding Fee, 62 FR 38475, July 18, 1997.

B. Annual Reporting Burden

None.

Obtaining Copies of Proposals: Requesters may obtain a copy of the information collection documents from the General Services Administration, Regulatory Secretariat (VIR), 1800 F Street, NW., Room 4035, Washington, DC 20405, telephone (202) 208-7312. Please cite OMB Control No. 3090-0250, Zero Burden Information Collection Reports, in all correspondence.

Dated: April 29, 2005.
Julia Wise,
Director, Contract Policy Division.

[FR Doc. 05-9099 Filed 5-5-05; 8:45 am]

BILLING CODE 6820-61-S